FEDERAL COMMUNICATIONS COMMISSION

[DA 03-2867]

Media Bureau To Terminate Temporary Broadcast Station Application Freeze; Revised Processing Guidelines Announced

AGENCY: Federal Communications Commission.

ACTION: Notice.

SUMMARY: In this document, the Commission is revising the processing guidelines for broadcast station applications filed on Forms 301, 314, and 315, reinstating the June 2002 versions of Forms 301, 314 and 315, and terminating the temporary application filing freeze. The United States Court of Appeals for the Third Circuit issued an Order staying the effectiveness of the new media ownership rules adopted by the Commission on June 2, 2003, 68 FR 48265 (August 5, 2003).

DATES: Effective September 17, 2003.

FOR FURTHER INFORMATION CONTACT: Peter H. Doyle or Nina Shafran of the Audio Division, Media Bureau, at (202) 418-2700, or Barbara Kreisman or Jim Brown of the Video Division, Media Bureau, at (202) 418-1600.

SUPPLEMENTARY INFORMATION: On September 3, 2003, the United States Court of Appeals for the Third Circuit issued an Order ¹ staying the effectiveness of the new media ownership rules adopted by the Commission on June 2, 2003.² The Court ordered “that the prior ownership rules remain in effect pending resolution of these proceedings.”³ In response, the Commission established a freeze on the filing of certain commercial broadcast station applications and amendments.⁴

¹ Prometheus Radio Project v. FCC, No. 03-3388 (3d Cir. Sept. 3, 2003) (per curiam) (order granting motion to stay effective date of FCC's new ownership rules) (“Order”).

² Report and Order in MB Docket No. 02-277 and MM Docket Nos. 01-235, 01-317, and 00-244 (adopted June 2, 2003) (published in summary form in the Federal Register, 68 FR 48265 (August 5, 2003)) (“Report and Order”).

³ Order at 3.

⁴ Currently, no application or amendment may be filed on Form 301, 314, or 315 by a commercial applicant or licensee.

The Order requires that the Commission process broadcast station applications under the prior ownership rules. Accordingly, the Media Bureau is issuing this Public Notice to announce revised processing guidelines for broadcast station applications filed on Forms 301, 314, and 315. The prior versions of these forms will be effective and available for use upon publication of this notice in the Federal Register. The temporary application filing freeze will be terminated simultaneously with this Federal Register publication.

Applications filed on June 2002 Versions of Forms 301, 314, and 315: The staff has resumed the processing of these commercial radio and television station applications. Applicants are not required to demonstrate compliance with the ownership rules adopted in the Report and Order. The invitation to file amendments demonstrating compliance with these rules is withdrawn.⁵

⁵ See FCC Forms 301, 314, and 315 Approved and Available For Use; Media Bureau Announces End to Freeze on the Filing of Form 301, 314, and 315 Applications and Amendments, Public Notice, DA 03-2642 (rel. Aug. 14, 2003) (permitting parties to file amendments demonstrating compliance with new multiple ownership rules).

Applications Filed on July 2003 Versions of Forms 301, 314, and 315: Commercial and noncommercial educational station applications filed on or after August 14, 2003, on the July 2003 versions of these forms must be amended by resubmitting complete applications on the June 2002 versions of these forms. Applicants should promptly submit these filings following publication in the Federal Register of this public notice. Waiver requests must be submitted for applications that do not comply with the prior ownership rules. The failure to submit a waiver request will result in an application's dismissal. All applications will retain originally assigned file numbers.

New Applications on Forms 301, 314, and 315: Commercial and noncommercial educational broadcast station applicants must use June 2002 versions of Forms 301, 314, and 315. The Media Bureau will begin accepting new applications on these forms following publication in the Federal Register of this Public Notice.

Noncommercial Educational Station Application Freeze: To facilitate the transition to the June 2002 versions of the affected forms, the Media Bureau will no longer accept any applications or amendments filed on the July 2003 versions of Forms 301, 314, and 315. This freeze is effective immediately, September 17, 2003. Accordingly, the current temporary filing freeze is extended to include all noncommercial educational radio and television station applications filed on these forms.

FCC Notice Required by the Paperwork Reduction Act

As required by the Paperwork Reduction Act of 1995 (44 U.S.C. 3507), the FCC is notifying the public that it has approval from the Office of Management and Budget for the collection(s) of information contained in FCC Forms 301, 314, and 315.

The OMB Control Numbers are: 3060-0027 (FCC Form 301, June 2002), 3060-0031 (FCC Form 314, June 2002), and 3060-0032 (FCC Form 315, June 2002). The annual reporting burden for each of these collection(s) of information, including the time for reviewing instructions, searching existing data sources, gathering and maintaining the required data and completing and reviewing the collection of information, are estimated to be: FCC Form 301: 3,370 respondents, 37 to 121 hours per annum, for a total annual burden of 7,427 hours, and $35,485,300 in total annual costs; FCC Form 314: 1,591 respondents, 12 to 48 hours per annum, for a total annual burden of 2,546 hours, and $12,236,878 in total annual costs; and FCC Form 315: 1,591 respondents, 12 to 48 hours per annum, for a total annual burden of 2,546 hours, and $12,236,878 in total annual costs. If you have any comments on these burden estimates, or how we can improve the collection(s) and reduce the burden(s) they cause you, please write to Les Smith, Federal Communications Commission, Room 1-A804, 445 12th Street SW., Washington, DC 20554. Please include the OMB Control Number(s): 3060-0027, 3060-0031, and/or 3060-0032, in your correspondence. We will also accept your comments regarding the Paperwork Reduction Act aspects of the collection(s) via the Internet if you send them to Leslie.Smith@fcc.gov or call (202) 418-0217.

Under 5 CFR Section 1320, an agency may not conduct or sponsor a collection of information unless it displays a current valid OMB Control Number. No person shall be subject to any penalty for failing to comply with a collection of information subject to the Paperwork Reduction Act (PRA) that does not display a valid OMB Control Number. The OMB Control Numbers are 3060-0027 (FCC Form 301), 3060-0031 (FCC Form 314), and 3060-0032 (FCC Form 315).

The foregoing notice is required by the Paperwork Reduction Act of 1995, Public Law 104-13, October 1, 1995, 44 U.S.C. 3507.

Federal Communications Commission.
Robert Ratcliffe,
Deputy Chief, Media Bureau.

[FR Doc. 03-23792 Filed 9-16-03; 8:45 am]

BILLING CODE 6712-01-P